NATIONAL FOUNDATION ON THE ARTS AND THE HUMANITIES

National Endowment for the Arts

President's Committee on the Arts and the Humanities: Meeting #72

AGENCY: National Endowment for the Arts, National Foundation on the Arts and Humanities.

ACTION: Notice of meeting.

SUMMARY: Pursuant to section 10(a)(2) of the Federal Advisory Committee Act (Pub. L. 92-463), as amended, notice is hereby given that the 72nd meeting of the President's Committee on the Arts and the Humanities (PCAH) will tentatively be held at the Library of Congress, 101 Independence Ave. SE., Washington, DC 20540. Please contact PCAH for specific location information. Ending time is approximate.

DATES: September 23, 2016 from 10:00 a.m. to 12:30 p.m.

FOR FURTHER INFORMATION CONTACT: Anjali Lalani of the President's Committee at (202) 682-5409 or alalani@pcah.gov.

SUPPLEMENTARY INFORMATION: The meeting, on Friday, September 23rd, will begin with welcome and remarks from the co-chairs. This will be followed by updates on Committee programs (National Arts and Humanities Youth Program Awards, Turnaround Arts, National Student Poets Program, and Cultural Diplomacy). There also will be reports from the President's Committee partners and ex officio members, such as the Institute of Museum and Library Services (IMLS), National Endowment for the Arts (NEA), National Endowment for the Humanities (NEH), National Gallery of Art, John F. Kennedy Center for the Performing Arts, U.S. Department of Education, and the U.S. Department of State. The meeting will adjourn after closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Anjali Lalani of the President's Committee seven (7) days in advance of the meeting at (202) 682-5409 or write to the Committee at Constitution Center, 400 7th St. SW., Washington, DC 20506. Further information with reference to this meeting can also be obtained from Ms. Lalani at alalani@pcah.gov.

If you need special accommodations due to a disability, please contact the Office of AccessAbility, National Endowment for the Arts, Constitution Center, 400 7th St. SW., Washington, DC 20506, (202) 682-5532, TDY-TDD (202) 682-5496, at least seven (7) days prior to the meeting.

Dated: September 1, 2016.
Kathy Plowitz-Worden,
Panel Coordinator, Panel Operations, National Endowment for the Arts.

[FR Doc. 2016-21437 Filed 9-6-16; 8:45 am]

BILLING CODE 7537-01-P